LEGAL SERVICES CORPORATION

Sunshine Act Meeting

TIME AND DATE: The Legal Services Corporation's (LSC) Board of Directors will meet Monday, November 22, 2021. The meeting will commence at 4:30 p.m., Eastern time, continuing until the conclusion of the Board's agenda.

PLACE:

Public Notice of Virtual Meeting.

LSC will conduct the November 22, 2021 meeting virtually via Zoom.

Public Observation: Unless otherwise noted herein, the Board meeting will be open to public observation. Members of the public who wish to participate remotely in the public proceedings may do so by following the directions provided below.

Directions for Open Sessions

Monday, November 22, 2021

• To join the Zoom meeting by computer, please use this link:

○ https://lsc-gov.zoom.us/j/94947300234?pwd=a1FxNlNIbUdDaHdwWEFlOGYzSzltUT09

○ Meeting ID: 949 4730 0234

○ Passcode: 112221

• To join the Zoom meeting with one tap from your mobile phone, please dial:

○ +13017158592,,94947300234# US (Washington DC)

○ +13126266799,,94947300234# US (Chicago)

○ Passcode: 112221

• To join the Zoom meeting by telephone, please dial any of the following numbers:

○ +1 301 715 8592 US (Washington, DC)

○ +1 312 626 6799 US (Chicago)

○ +1 646 876 9923 US (New York)

○ +1 408 638 0968 US (San Jose)

○ +1 669 900 6833 US (San Jose)

○ +1 253 215 8782 US (Tacoma)

○ +1 346 248 7799 US (Houston)

○ Meeting ID: 949 4730 0234

○ Passcode: 112221

Once connected to Zoom, please immediately mute your computer or telephone. Members of the public are asked to keep their computers or telephones muted to eliminate background noise. To avoid disrupting the meetings, please refrain from placing the call on hold if doing so will trigger recorded music or other sound.

From time to time, the Chair may solicit comments from the public. To participate in the meeting during public comment, use the `raise your hand' or `chat' functions in Zoom and wait to be recognized by the Chair before stating your questions and/or comments.

STATUS: Open.

MATTERS TO BE CONSIDERED:

Meeting Schedule

1. Approval of agenda

2. Consider and act on the Board of Directors' transmittal letter to accompany the Inspector General's Semiannual Report to Congress for the period of April 1, 2021 through September 30, 2021

3. Public comment

4. Consider and act on other business

5. Consider and act on adjournment of meeting

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

Dated: November 11, 2021.
Jessica L. Wechter,
Special Assistant to the President, Legal Services Corporation.

[FR Doc. 2021-25037 Filed 11-12-21; 11:15 am]

BILLING CODE 7050-01-P